DEPARTMENT OF COMMERCE

National Oceanic and Atmospheric Administration

RIN 0648-XD57

Atlantic Highly Migratory Species (HMS); Pelagic Longline Research

AGENCY: National Marine Fisheries Service (NMFS), National Oceanic and Atmospheric Administration (NOAA), Commerce.

ACTION: Notice; request for comments.

SUMMARY: NMFS announces the availability of an Environmental Assessment (EA) analyzing the impacts of conducting research with pelagic longline (PLL) vessels in portions of the East Florida Coast (EFC) and Charleston Bump closed areas. Given the nearly rebuilt status of north Atlantic swordfish and recent bycatch reduction measures implemented throughout the U.S. PLL fishery, NMFS is proposing to collect baseline PLL fishery data in the closed areas to evaluate the effectiveness of existing bycatch reduction measures. The EA analyzes monthly and annual PLL logbook and pelagic observer program (POP) data on catch and bycatch rates of all species in the proposed research area from 1995-2000 to determine potential impacts of the research fishery on target and non-target species. NMFS invites comments from interested parties on the EA.

DATES: Written comments on the EA must be received by 5 p.m. on November 20, 2007.

ADDRESSES: You may submit comments by any of the following methods:

• Email: PLL.ResearchEA@noaa.gov. Include in the subject line the following identifier: I.D. PLL Research EA.

• Mail: Margo Schulze-Haugen, Highly Migratory Species Management Division (F/SF1), NMFS, 1315 East-West Highway, Silver Spring, MD 20910. Please mark the outside of the envelope “Comments on PLL Research EA.”

• Fax: (301)713-1917

FOR FURTHER INFORMATION CONTACT: Russell Dunn, 727-824-5399; fax: 727-824-5398, or Chris Rilling 301-713-2347; fax: 301-713-1917.

SUPPLEMENTARY INFORMATION: NMFS proposes to conduct research with a limited number of vessels (two are proposed, but backup vessels may be used if breakdowns occur) in portions of the EFC and Charleston Bump closed areas (Figure 1). The latitude and longitude coordinates of the proposed research area are provided in Table 1. In the EFC closed area, the proposed research area would be north of Fort Pierce, FL, beginning at 28 degrees north latitude and proceeding north, seaward of the axis of the Gulf Stream, to the northern boundary of the EFC closed area at 31 degrees north latitude. In the Charleston Bump, the proposed research area would be north of 31 degrees north latitude and following the 200 meter isobath ( ~100 fathom contour) to the northern and eastern boundaries of the Charleston Bump closed area. The two areas are hereafter referred to collectively as the proposed research area. NMFS closed the EFC and Charleston Bump closed areas to PLL gear in early 2001 to reduce bycatch of juvenile swordfish, billfish, and other HMS (65 FR 47214, August 1, 2000). The Charleston Bump closed area is a seasonal closure from February through April every year, whereas the EFC closed area is closed year-round to PLL gear. Since that time, the swordfish stock has been nearly rebuilt (B=0.99BMSY) and new bycatch reduction measures have been implemented throughout the PLL fishery (e.g., circle hook requirements, bait requirements, bycatch release gear, and careful handling and release workshops). No PLL fishing has been authorized in the closed areas since 2001, and NMFS has not collected information on the effectiveness of current bycatch reduction measures in closed areas where bycatch rates may be higher than in other areas. NMFS thus proposes to collect information under scientifically rigorous protocols to determine the effectiveness of bycatch reduction measures in these closed areas. This information will assist NMFS in making appropriate management decisions regarding the effectiveness of existing closed areas and bycatch reduction technologies, as well as any potential modifications to the closed areas.

NMFS proposes to make a total of 289 sets distributed inside and outside the proposed research area over a 12 month period beginning in late 2007 or early 2008. Each set would consist of 500 18/0 circle hooks with an offset not to exceed 10 degrees with whole dead finfish bait and/or squid bait. Vessels would be subject to 100 percent observer coverage, and observers or research staff would collect data that includes, but is not limited to, catch per unit effort (CPUE) for target and bycatch species; discard rates; interaction rates with protected species; size of target species; hooking location; mortality at haul back; bycatch mortality; and if possible, an evaluation of the condition of fish at haul back to allow post-release mortality estimates.

All targeted catch (tunas, swordfish, and sharks) that can be legally landed could be harvested and sold by the vessel owners. No other compensation would be provided to the vessels. All bycatch would be released using NMFS-approved dehooking equipment and appropriate safe handling and release protocols. Incidental catch of bluefin tuna would be landed consistent with existing regulations. Any mortalities of Atlantic Tunas Convention Act (ATCA) regulated species (i.e., tunas and swordfish) and sharks would be counted against the appropriate quotas. Non-target species and protected resources would be tagged and released alive, consistent with requirements of the Terms and Conditions of the 2004 Biological Opinion issued for the fishery, and research objectives.

The EA analyzed the status quo and two alternatives on different proposed research areas within the EFC and Charleston Bump areas. A fourth alternative to conduct research throughout the entire EFC and Charleston Bump closed areas was considered but not further analyzed. Based on analysis in the EA of PLL and POP data from 1995-2000 and prior to the closures and circle hook requirements going into effect, a limited number of interactions with leatherback sea turtles (four based on PLL data and six based on POP data over six years) and loggerhead sea turtles (five based on PLL data and 12 based on POP data over six years) occurred in the proposed research area. Under a worst case scenario using estimates from the POP data, and applying anticipated fishing effort in the research fishery to pre-closure J-hook catch rates, two leatherback and six loggerhead sea turtle interactions may occur as a result of the research fishery. Given the significantly lower interaction and mortality rates of Atlantic sea turtles with circle hooks, this action is not expected to significantly increase fishery interactions with, or mortalities of, sea turtles. The predicted interactions would not cause the Incidental Take Statement in the 2004 Biological Opinion for the PLL fishery to be exceeded, and would not be expected to jeopardize the continued existence of sea turtles. Incidental takes of, or interactions with, protected species that are listed as threatened or endangered under the Endangered Species Act taking place under the research fishery would be counted against the authorized incidental take levels specified in the 2004 Biological Opinion for the PLL fishery.

The EA includes similar analyses of PLL and POP data from 1995-2000 on catch rates, live and dead discard rates, and retained numbers of swordfish, bluefin, yellowfin, and bigeye tunas, large coastal sharks, and pelagic sharks. Based on the worst case scenario from the POP data, and applying anticipated fishing effort in the research fishery to pre-closure J-hook catch rates, an estimated 1,083 swordfish are predicted to be retained, 973 discarded alive, and 360 discarded dead; zero (0) bluefin tuna are predicted to be caught or discarded; nine white marlin are predicted to be discarded alive and 13 dead; 10 blue marlin are predicted to be discarded alive and 14 dead; 113 large coastal sharks are predicted to be kept; 124 discarded alive, and 50 discarded dead (depending upon available quota); and 21 pelagic sharks are predicted to be kept, 81 discarded alive, and 11 discarded dead (depending upon available quota). Given the known and anticipated mortality reduction benefits of circle hooks for Atlantic HMS relative to J-hooks, the estimates above are likely over-estimates. As a result, this action is not expected to significantly increase the retention or bycatch of HMS.

All fishing activities would be monitored by Federal fisheries observers or trained research staff to provide data on longline gear configuration; target and incidental catch; bycatch of billfish, juvenile swordfish, and bluefin tuna; and sea turtle interactions. NMFS currently collects this information on selected PLL vessels through the POP.

Even though fishing effort will increase in the proposed research area, fishing effort across the entire fishery is not anticipated to increase because vessels participating in the research fishery would have otherwise been fishing commercially for HMS in open areas.

The regulations that prohibit the proposed activities absent issuance of an EFP, include requirements for vessel reporting (50 CFR 635.4) and fishing in a closed area (50 CFR 635.21(c)(2)). All other relevant regulations concerning HMS at 50 CFR Part 635 would apply.

NMFS is requesting public comment on the EA because the fishing activities are proposed to occur in closed areas, specifically the EFC and Charleston Bump. If NMFS proceeds with the proposed research as described in the EA, then NMFS would issue the necessary exempted fishing permits to authorize the research activity.

Authority: 16 U.S.C. 971 et seq. and 16 U.S.C. 1801 et seq.

Dated: October 30, 2007.
Emily H. Menashes
Acting Director, Office of Sustainable Fisheries, National Marine Fisheries Service.

BILLING CODE 3510-22-S

Table 1. Coordinates of the proposed research area (preferred alternative 3) shown in Figure 1 beginning with location number 1 and proceeding clockwise through location number 12.
Point | Latitude: Degrees | Latitude: Minutes | Latitude: Seconds | Longitude: Degrees | Longitude: Minutes | Longitude: Seconds
1 | 34 | 0 | 0 | 76 | 0 | 0
2 | 31 | 0 | 0 | 76 | 0 | 0
3 | 31 | 0 | 0 | 78 | 0 | 0
4 | 28 | 17 | 6.8 | 79 | 11 | 54.5
5 | 28 | 0 | 0 | 79 | 23 | 47.9
6 | 28 | 0 | 0 | 79 | 40 | 0
7 | 31 | 0 | 0 | 79 | 40 | 0
8 | 31 | 0 | 0 | 79 | 54 | 38.9
9 | 31 | 47 | 7.2 | 78 | 21 | 50.5
10 | 32 | 29 | 12.1 | 78 | 40 | 21.0
11 | 33 | 5 | 35.8 | 77 | 27 | 15.7
12 | 34 | 0 | 0 | 76 | 15 | 26.5

[FR Doc. 07-5474 Filed 11-2-07; 8:45 am]

BILLING CODE 3510-22-C